DEPARTMENT OF ENERGY

Federal Energy Regulatory Commission

Central 40, LLC | EG20-176-000
Pioneer Solar (CO), LLC | EG20-177-000
Maverick Creek Wind, LLC | EG20-178-000
Northern Colorado Wind Energy Center II, LLC | EG20-179-000
Assembly Solar I, LLC | EG20-180-000
Clyde OnSite Generation, LLC | EG20-181-000
Rattlesnake Flat, LLC | EG20-182-000
Aviator Wind, LLC | EG20-183-000
Hardin Wind LLC | EG20-184-000
Altavista Solar, LLC | EG20-185-000
Ellwood Power, LLC | EG20-186-000
Ormond Beach Power, LLC | EG20-187-000
Fern Solar LLC | EG20-188-000
Orbit Bloom Energy, LLC | EG20-189-000
Antelope Expansion 3A, LLC | EG20-190-000
Antelope Expansion 3B, LLC | EG20-191-000
SR Snipesville, LLC | EG20-192-000
Titan Solar 1, LLC | EG20-193-000
Coachella Hills Wind, LLC | EG20-194-000
Voyager Wind IV Expansion, LLC | EG20-195-000
Hardin Solar Energy LLC | EG20-196-000
Deuel Harvest Wind Energy LLC | EG20-197-000
Cassadaga Wind LLC | EG20-198-000
Boswell Wind, LLC | EG20-199-000
Maryneal Windpower, LLC | EG20-200-000
HO Clarke Generating, LLC | EG20-201-000
G.S.E. One LLC | EG20-202-000
SR Baxley, LLC | EG20-203-000
Milford Solar I, LLC | EG20-204-000
Odom Solar, LLC | EG20-206-000
Energy Center Fajardo LLC | FC20-10-000
Faro Energy Ltd. | FC20-11-000

Notice of Effectiveness of Exempt Wholesale Generator and Foreign Utility Company Status

Take notice that during the month of August 2020, the status of the above-captioned entities as Exempt Wholesale Generators or Foreign Utility Companies became effective by operation of the Commission's regulations. 18 CFR 366.7(a) (2020).

Dated: September 15, 2020.
Nathaniel J. Davis, Sr.,
Deputy Secretary.

[FR Doc. 2020-20765 Filed 9-18-20; 8:45 am]

BILLING CODE 6717-01-P